DEPARTMENT OF THE INTERIOR

Bureau of Land Management

[AZ-020-00-1010-00]

Closure of Public Land to Camping in Maricopa County, Arizona

AGENCY: Bureau of Land Management, Interior.

ACTION: Notice of closure of public lands to camping.

SUMMARY: Notice is hereby given that the following described public lands are temporarily closed to camping for the protection of public health and safety under the provisions of 43 CFR 8364.1. The closure will remain in effect until rescinded or modified by the Phoenix Field Manager.

Gila and Salt River Meridian, Arizona

T. 1 N., R. 5 E.,

Sec. 3, Lot 10;

Sec. 4, Lots 25, 26 and 28.

EFFECTIVE DATE: This order is effective upon signature of the authorized officer.

SUPPLEMENTARY INFORMATION: The public lands involved (approximately 67 acres), located at Country Club Drive and the Salt River, are adjacent to areas of expanding urban development. Unregulated and extended overnight camping is not consistent with the orderly growth of the communities and presents health and safety problems. Because of prior existing rights, the following parties (and their representatives) will be allowed access to the above described lands:

Arizona DOT—(AZA-15001, AZAR-001728, AZAR-032447, AZAR-035991)

Federal Highway Administration #9—(AZA-30021, AZA-30074)

Maricopa County Board of Supervisors—(AZA-16871)

Order

Notice is hereby given that effective the date of signature by the authorized officer of this notice, the above described lands are closed to camping until further notice. Any person who fails to comply with a closure or restriction order issued under 43 CFR 8364 is subject to the penalties provided in 43 CFR 8360.0-7.

FOR FURTHER INFORMATION CONTACT: Michael A. Taylor, Field Manager, Phoenix Field Office, 2015 West Deer Valley Road, Phoenix, AZ 85027, (623) 580-5500.

Dated: June 7, 2000.
MarLynn Spears,
Assistant Field Manager, Lands and Minerals.

[FR Doc. 00-15134 Filed 6-14-00; 8:45 am]

BILLING CODE 4310-32-M